DEPARTMENT OF COMMERCE

National Oceanic and Atmospheric Administration

50 CFR Part 622

[Docket No. 200124-0029; RTID 0648-XD967]

Fisheries of the Caribbean, Gulf of Mexico, and South Atlantic; Reef Fish Fishery of the Gulf of Mexico; 2024 Red Snapper Private Angling Component Accountability Measure in Federal Waters Off Alabama, Florida, and Mississippi

AGENCY: National Marine Fisheries Service (NMFS), National Oceanic and Atmospheric Administration (NOAA), Commerce.

ACTION: Temporary rule, accountability measure.

SUMMARY: Through this temporary rule, NMFS implements accountability measures for the red snapper recreational sector private angling component in the Gulf of Mexico (Gulf) off Alabama, Florida, and Mississippi for the 2024 fishing year. Based on information provided by the Alabama Department of Conservation and Natural Resources (ADCNR), the Florida Fish and Wildlife Conservation Commission (FWC), and the Mississippi Department of Marine Resources (MDMR), NMFS has determined that landings in each of these States exceeded the State's 2023 regional management area private angling component annual catch limits (ACL) for Gulf red snapper. Therefore, NMFS reduces the Alabama, Florida, and Mississippi 2024 private angling component ACLs. This reduction will remain in effect through the remainder of the current fishing year on December 31, 2024.

DATES: This temporary rule is effective from 12:01 a.m., local time, on June 13, 2024, until 12:01 a.m., local time, on January 1, 2025.

FOR FURTHER INFORMATION CONTACT: Frank Helies, NMFS Southeast Regional Office, 727-824-5305, frank.helies@noaa.gov.

SUPPLEMENTARY INFORMATION: NMFS manages the Gulf reef fish fishery, which includes red snapper, under the Fishery Management Plan for the Reef Fish Resources of the Gulf of Mexico (FMP). The Gulf of Mexico Fishery Management Council prepared the FMP, which was approved by the Secretary of Commerce, and NMFS implements the FMP through regulations at 50 CFR part 622 under the authority of the Magnuson-Stevens Fishery Conservation and Management Act (Magnuson-Stevens Act). All red snapper weights discussed in this temporary rule are in round weight.

In 2015, Amendment 40 to the FMP established two components within the recreational sector fishing for red snapper: the private angling component, and the Federal charter vessel and headboat (for-hire) component (80 FR 22422, April 22, 2015). In 2020, NMFS implemented Amendments 50 A-F to the FMP, which delegated authority to the Gulf States (Alabama, Florida, Louisiana, Mississippi, and Texas) to establish specific management measures for the harvest of red snapper in Federal waters of the Gulf by the private angling component of the recreational sector (85 FR 6819, February 6, 2020). These amendments allocated a portion of the private angling ACL to each State, and each State is required to constrain landings to its allocation as part of State management.

As described at 50 CFR 622.39(a)(2)(i), the Gulf red snapper recreational sector quota (ACL) is 7,991,900 pounds (lb) (3,625,065 kilograms(kg)) and the recreational private angling component quota (ACL) is 4,611,326 lb (2,091,662 kg). These catch limits are based, in part, on landings estimates generated by the Marine Recreational Information Program (MRIP) and, prior to the 2023 fishing year, the State-specific ACLs for Alabama, Florida, Louisiana, Mississippi were also MRIP-based. These MRIP-based State ACLs are not directly comparable to the landings estimates produced by each State's survey. Therefore, in 2023, NMFS implemented a framework action under the FMP to calibrate the red snapper ACLs for Alabama, Florida, Louisiana, and Mississippi so they could be directly compared to the landings estimates produced by each of those State's data collection program (Calibration Framework)(87 FR 74014, December 2, 2022). This framework action established State-specific calibration ratios that NMFS applied to the MRIP-based ACLs to establish State-survey based ACLs, which allow a direct comparison to the landings estimates produced by each State.

On May 14, 2024, NMFS published a final rule for a framework action to the FMP that modified the State-specific ratios for Alabama, Florida, and Mississippi and modified each of these State's private angling component ACL based on the new ratios (89 FR 41896). That final rule will be effective on June 13, 2024, and adjusts the State-survey based ACLs as follows: the Alabama regional management area private angling component ACL will be 664,552 lb (301,436 kg) (50 CFR 622.23(a)(1)(ii)(A)); the Florida regional management area private angling component ACL will be 2,769,631 lb (1,256,283 kg) (50 CFR 622.23(a)(1)(ii)(B)), and the Mississippi regional management area private angling component ACL will be 82,342 lb (37,350 kg) (50 CFR 622.23(a)(1)(ii)(D)). The MRIP-based State ACLs, described in the regulations as the Federal equivalent, will remain the same.

Regulations at 50 CFR 622.23(b) require that if a State's red snapper private angling component landings exceed the applicable State's component ACL, then in the following fishing year, that State's private angling ACL will be reduced by the amount of that ACL overage in the prior fishing year. Based on data provided by the ADCNR, NMFS has determined that 2023 landings of red snapper in Alabama for the private angling component, which includes landings for State charter vessels, were 596,083 lb (270,379 kg); which is 4,898 lb (2,222 kg) greater than the 2023 Alabama State-survey based ACL. Based on data provided by the FWC, NMFS has determined that 2023 landings of red snapper in Florida for the private angling component, which includes landings for State charter vessels, were 2,204,136 lb (999,779 kg); which is 12,821 lb (5,816 kg) greater than the 2023 Florida State-survey based ACL. Based on data provided by the MDMR, NMFS has determined that 2023 landings of red snapper in Mississippi for the private angling component, which includes landings for State charter vessels, were 80,675 lb (36,594 kg); which is 17,813 lb (8,080 kg) greater than the 2023 Mississippi State-survey based ACL. Accordingly, for the 2024 fishing year, this temporary rule reduces the Alabama, Florida, and Mississippi 2024 State-survey based ACLs by the amount of the overages. These reductions results in a revised 2024 private angling ACL for Alabama of 659,654 lb (299,214 kg), a revised 2024 private angling ACL for Florida of 2,756,810 lb (1,250,468 kg), and a revised 2024 private angling ACL for Mississippi of 64,529 lb (29,270 kg).

The recreational private angling component ACLs for the other Gulf State management areas (Louisiana and Texas) for 2024 are unaffected by this temporary rule. The reductions in the 2024 red snapper private angling component ACLs for the Alabama, Florida, and Mississippi regional management areas are effective at 12:01 a.m., local time, on June 13, 2024, and will remain in effect until 12:01 a.m., local time, on January 1, 2025.

The ADCNR, FWC, and MDMR are responsible for ensuring that 2024 private angling component landings in each applicable State's regional management area do not exceed the adjusted 2024 Alabama, Florida, and Mississippi ACLs. NMFS notes that after the ADCNR, FWC, and MDMR identified that ACL overages had occurred in 2023, they adjusted their respective 2024 red snapper private angling fishing seasons to account for the reduction in the ACLs as required by the regulations at 50 CFR 622.23(b) and implemented through this temporary rule.

Classification

NMFS issues this action pursuant to section 305(d) of the Magnuson-Stevens Act. This action is required under 50 CFR 622.23(b) which was issued pursuant to section 304(b) of the Magnuson-Stevens Act, and is exempt from review under Executive Order 12866.

Pursuant to 5 U.S.C. 553(b)(B), there is good cause to waive prior notice and opportunity for public comment on this action. Such procedures are unnecessary because the rule implementing the post-season ACL adjustment authority has already been subject to notice and comment, and all that remains is to notify the public of the ACL overage adjustment to reduce the private angling component ACLs for the Alabama, Florida, and Mississippi regional management areas. Such procedures are contrary to the public interest because a failure to implement the ACL overage adjustments immediately may result in confusion among the public about what ACL is in effect for Alabama, Florida, and Mississippi for the 2024 fishing year. This action is based on the best scientific information available.

For the aforementioned reasons, there is also good cause to waive the 30-day delay in the effectiveness of the action under 5 U.S.C. 553(d)(3).

Authority: 16 U.S.C. 1801 et seq.

Dated: June 5, 2024.
Karen H. Abrams,
Acting Director, Office of Sustainable Fisheries, National Marine Fisheries Service.

[FR Doc. 2024-12693 Filed 6-10-24; 8:45 am]

BILLING CODE 3510-22-P